DEPARTMENT OF ENERGY

Federal Energy Regulatory Commission

[Docket No. RM01-5-000]

Electronic Tariff Filings; Notice of Technical Conferences

December 16, 2009.

In Order No. 714,¹ the Commission adopted regulations requiring tariff and tariff related filings to be made electronically starting April 1, 2010. One of the required electronic tariff filing's data elements is the Type of Filing Code.

¹ Electronic Tariff Filings, Order No. 714, 73 FR 57,515 (Oct. 3, 2008), 124 FERC ¶ 61,270, FERC Stats. & Regs [Regulations Preambles] ¶ 31,276 (2008) (Sept. 19, 2008).

Take notice that several technical conferences will be held to address certain specific issues related to the Type of Filing Code. Specifically, these meetings will address the tariff filing definitions used for electronic filing and the attachments that are required, in accordance with the Commission's regulations, for each tariff filing type. The conferences will be held at the Commission's offices, 888 First Street, NE., Washington, DC. All interested persons are invited to attend.

The documents that will be discussed are located at http://www.ferc.gov/docs-filing/etariff.asp. The dates, times, room numbers and the regulatory sections to be discussed are as follows:

Industry | Date | Time and room location | Regulatory section to discuss
Natural Gas Act Pipelines | Friday, January 22, 2010 | 10 a.m. EDT Room 3M-3 | Part 154.
Natural Gas Policy Act and NGA Hinshaw Pipelines | Friday, January 22, 2010 | After NGA pipelines—5 p.m., Room 3M-3 | Sections 284.123 and .224.
Interstate Commerce Act Pipelines | Thursday, January 28, 2010 | 10 a.m.-1:30 p.m. EDT, Room 3M-3 | Part 341.
Federal Power Act Public Utilities | Tuesday, February 9, 2010 | 10 a.m.-1:30 p.m. EDT, Room 3M-3 | Part 35.

Teleconferencing will be available. The number for teleconferencing in these meetings will be posted on http://www.ferc.gov/docs-filing/etariff.asp and an RSS alert of the posting will be issued.

The meetings are open to the public. No preregistration is required.

FERC meetings are accessible under section 508 of the Rehabilitation Act of 1973. For accessibility accommodations please send an e-mail to accessibility@ferc.gov or call toll free (866) 208-3372 (voice) or (202) 502-8659 (TTY), or send a fax to (202) 208-2106 with the required accommodations.

For more information about these conferences, please contact Keith Pierce, Office of Energy Market Regulation at (202) 502-8525 or send an e-mail to ETariff@ferc.gov.

Kimberly D. Bose,
Secretary.

[FR Doc. E9-30456 Filed 12-22-09; 8:45 am]

BILLING CODE 6717-01-P